DEPARTMENT OF DEFENSE

Department of the Air Force

Record of Decision for the F-35 Force Development Evaluation and Weapons School Beddown, Nellis AFB, NV

ACTION: Notice of Availability (NOA).

SUMMARY: On June 24, 2011, the United States Air Force signed the ROD for the F-35 Force Development Evaluation (FDE) and Weapons School (WS) Beddown, Nellis AFB, Nevada.

The decision was based on matters discussed in the Final Environmental Impact Statement (EIS), inputs from the public and regulatory agencies, and other relevant factors. The Final EIS was made available to the public on May 13, 2011, through a Federal Register NOA (Volume 76, Number 93, Page 28029) with a wait period that ended on June 14, 2011.

Authority: This NOA is published pursuant to the regulations (40 CFR Part 1506.6) implementing the provisions of the NEPA of 1969 (42 U.S.C. 4321, et seq.) and the Air Force's Environmental Impact Analysis Process (EIAP) (32 CFR parts 989.21(b) and 989.24(b)(7))

FOR FURTHER INFORMATION CONTACT: Mr. Nick Germanos, HQ ACC/A7PS, 129 Andrews St., Suite 327, Langley AFB, VA 23655-2769.

Albert Bodnar,
Chief, Policy and Compliance, Office of Information Dominance and Chief Information Officer.

[FR Doc. 2011-16696 Filed 7-5-11; 8:45 am]

BILLING CODE 5001-10-P